LEGAL SERVICES CORPORATION

Legal Services Corporation Technology Baselines; Request for Comments

AGENCY: Legal Services Corporation.

ACTION: Request for comments.

SUMMARY: The Legal Services Corporation (LSC) seeks public comment on draft revisions to its Technology Baselines: Technologies that Should Be in Place in a Legal Office Today (Baselines). The Baselines address the use of technology in providing high-quality legal services to clients. They provide guidance for LSC grantees and a resource for LSC during reviews of grantees' program quality. They are not minimum requirements. LSC last updated the Baselines in 2015.

DATES: April 21, 2023, at 11:59 p.m. Eastern Time is the deadline for all comments to be submitted to LSC. LSC will not consider comments submitted after the deadline.

ADDRESSES: Comments must be submitted as follows:

• Acrobat PDF format.

• Emailed as an attachment to a transmittal message sent to: techgrants@lsc.gov.

• Emailed with the subject line: Comments on Technology Baselines.

FOR FURTHER INFORMATION CONTACT: Questions should be sent to techgrants@lsc.gov with the subject line: Questions about Technology Baselines Comments. Questions about this notice can be sent to Mark Freedman, Senior Associate General Counsel, 202-295-1623.

SUPPLEMENTARY INFORMATION: The Legal Services Corporation (LSC) seeks comment on draft revisions to its Technology Baselines: Technologies that Should Be in Place in a Legal Office Today (Baselines). The draft revisions are posted online at: www.lsc.gov/matters-comment. LSC will also host a webinar regarding these draft revisions on March 29, 2023. Information about the webinar will also be posted at www.lsc.gov/matters-comment.

LSC first adopted the Baselines in 2008 and revised them in 2015. The Baselines address the use of technology in providing high-quality legal services to clients. They set out the technology capacities that LSC grantees should have in place or have available to them through a vendor or a partner. They also serve as a resource for LSC during reviews of grantees' program quality. They are not minimum requirements.

The draft revisions reflect the significant changes in the way legal services are delivered because of the COVID-19 pandemic as well as the growth in cybersecurity threats since 2015. They include consideration of remote/hybrid work environments, cloud computing and policies, new security baselines for networks and data, document management strategies, social media policy, and the use of web and video conferencing systems. A summary of significant updates by section can be found in the draft document.

LSC issues this notice pursuant to 42 U.S.C. 2996g(e).

Dated: March 15, 2023.
Mark Freedman,
Senior Associate General Counsel.

[FR Doc. 2023-05594 Filed 3-17-23; 8:45 am]

BILLING CODE 7050-01-P